DEPARTMENT OF LABOR

Employment and Training Administration

Labor Surplus Area Classification Under Executive Orders 12073 and 10582

ACTION: Notice.

EFFECTIVE DATE: The annual list of labor surplus areas is effective October 1, 2001, for all States.

SUMMARY: The purpose of this notice is to announce the annual list of labor surplus areas for Fiscal Year 2002.

FOR FURTHER INFORMATION CONTACT: Gay Gilbert, Division Chief, U.S. Employment Service, Employment and Training Administration, 200 Constitution Avenue, NW., Room C 4512, Washington, DC 20210. Telephone: (202) 693-3046.

SUPPLEMENTARY INFORMATION: The Department of Labor regulations implementing Executive Orders 12073 and 10582 are set forth at 20 CFR part 654, subparts A and B. These regulations require the Assistant Secretary of Labor to classify jurisdictions as labor surplus areas pursuant to the criteria specified in the regulations and to publish annually a list of labor surplus areas. Pursuant to those regulations the Assistant Secretary of Labor is hereby publishing the annual list of labor surplus areas.

In addition, the regulations provide an exceptional circumstance criteria for classifying labor surplus areas when catastrophic events, such as natural disasters, plant closings, and contract cancellations are expected to have a long-term impact on labor market area conditions, discounting temporary or seasonal factors. The FY 2002 Labor Surplus Area list includes Whiteside County, Illinois, an area approved through the exceptional circumstances criteria.

Dated: December 12, 2001.
Emily Stover DeRocco,
Assistant Secretary of Labor.

Eligible Labor Surplus Areas

Procedures for Classifying Labor Surplus Areas

Labor surplus areas are classified on the basis of civil jurisdictions rather than on a metropolitan area or labor market area basis. Under the basic labor surplus area program procedures, area classifications are made on the basis of civil jurisdictions. Under the program's exceptional circumstance procedures, labor surplus area classifications can be made on the basis of civil jurisdictions, Metropolitan Statistical Areas or Primary Metropolitan Statistical Areas.

Civil jurisdictions are now defined as all cities with a population of at least 25,000 and all counties. Townships of 25,000 or more population are also considered as civil jurisdictions in 4 states (Michigan, New Jersey, New York, and Pennsylvania). In Connecticut, Massachusetts, Puerto Rico, and Rhode Island, where counties have very limited or no government functions, the classifications are done for individual towns.

A civil jurisdiction is classified as a labor surplus area when its average unemployment rate was at least 20 percent above the average unemployment rate for all states (including the District of Columbia and Puerto Rico) during the previous 2 calendar years. During periods of high national unemployment, the 20 percent ratio is disregarded and an area is classified as a labor surplus area if its unemployment rate during the previous 2 calendar years was 10 percent or more. This 10 percent ceiling concept comes into operation whenever the 2-year average unemployment rate for all states was 8.3 percent or above (i.e., 8.3 percent times the 1.20 ratio equals 10.0 percent). Similarly, a “floor” concept of 6.0 percent is used during periods of low national unemployment in order for an area to qualify as a labor surplus area. The 6 percent “floor” comes into effect whenever the average unemployment rate for all states during the 2-year reference period was 5.0 percent or less.

The classification procedures also provide for the designation of labor surplus areas under exceptional circumstance criteria. These procedures permit the regular classification criteria to be waived when an area experiences a significant increase in unemployment which is not temporary or seasonal and which was not adequately reflected in the data for the 2-year reference period. In order for an area to be classified as a labor surplus area under the exceptional circumstance criteria, the State Workforce Agency must submit a petition requesting such classification to the Department of Labor's Employment and Training Administration.

The current conditions for exceptional circumstance classification are: an area unemployment rate of at least 6.0 percent for each of the 3 most recent months; projected unemployment rate of at least 6.0 percent for each of the next 12 months; and documented information that the exceptional circumstance event has already occurred. The State Workforce Agency may file petitions on behalf of civil jurisdictions, as well as Metropolitan Statistical Areas of Primary Metropolitan Statistical Areas, as defined by the Office of Management and Budget. The addresses of State Workforce Agencies are available at the end of this description.

The Department of Labor issues the labor surplus area listing on a fiscal year basis. The listing becomes effective each October 1 and remains in effect through the following September 30. During the course of the fiscal year, the annual listing is updated on the basis of exceptional circumstances petitions submitted by State Workforce Agencies and approved by the Employment and Training Administration. The reference period used in preparing the current list was January 1999 through December 2000. The national average unemployment rate during this period (including data for Puerto Rico) fell below 5.0 percent. As a result, the 6.0 percent “floor” rate explained in paragraph number three, went into effect for the Fiscal Year 2002 labor surplus area classifications. Areas are therefore included on the current annual labor surplus area listing because their average unemployment rate during the reference period was 6.0 percent or above.

Labor Surplus Area List

The Fiscal Year 2002 labor surplus area list, which follows, contains 1,091 areas in 49 States, the District of Columbia, and Puerto Rico. The list only includes those states and jurisdictions with designated labor surplus areas. All of the qualifying areas in the Nation are listed in the alphabetical order by State or State equivalent. The Fiscal Year 2002 classifications will be in effect through September 30, 2002.

The FY 2002 list also includes Whiteside County, Illinois, an area that was certified under the exceptional circumstances criteria.

State Workforce Agencies

Alabama—Department of Industrial Relations, 649 Monroe St., Montgomery 36130

Alaska—Department of Labor & Workforce Development, P.O. Box 25509, Juneau, 99802

Arizona—Arizona Department of Economic Security, 1717 W. Jefferson, Phoenix 85005

Arkansas—Employment Security Department, Department of Labor, P.O. Box 2981, Little Rock 72203

California—Employment Development Department, 800 Capitol Mall, Sacramento 95814

Colorado—Department of Labor and Employment, 1515 Arapahoe Street, Denver 80202-2117

Connecticut—Connecticut Labor Dept., Employment Security Division, 200 Folly Brook Blvd., Wethersfield 06109

Delaware—Delaware Department of Labor, Division of Employment & Training, 820 French St., Wilmington 19809

District of Columbia—Department of Employment Services, 609 H Street, NE., Washington, DC 20002

Florida—Agency for Workforce Innovation, Commerce Industrial Ctr., Marpan Lane, Tallahassee 32311-0902

Georgia—Georgia Department of Labor, 148 International Blvd, NE, Atlanta 30303

Guam—Department of Labor, Government of Guam, P.O. Box 23548 GMF, Agana 96921

Hawaii—Department of Labor and Industrial Relations, 830 Punchbowl St., Honolulu 96813

Idaho—Department of Labor, 317 Main St., P.O. Box 35, Boise 83735

Illinois—Department of Employment Security, 401 South State St., Chicago 60605-1289

Indiana—Department of Employment and Training Services, 10 North Senate Ave., Indianapolis 46204

Iowa—Iowa Workforce Development, 1000 Grand Ave., Des Moines 50319

Kansas—Dept of Human Resources, Division of Employment, 401 Topeka Ave., Topeka 66603

Kentucky—Department of Employment Services, 275 East Main St., Frankfort 40621

Louisiana—Department of Labor, P.O. Box 94094, Baton Rouge 70804-9094

Maine—Department of Labor, Bureau of Employment Services, 20 Union St., P.O. Box 309, Augusta 04330

Maryland—Department of Economic and Employment Development, 1100 N. Eutaw St., Baltimore 21201

Massachusetts—Division of Employment and Training, 19 Stanford St., Charles F. Hurley Bldg., Boston, 02114

Michigan—Department of Career Development, Employment Service Agency, Victor Office Center, 201 N. Washington Square, 5th Floor, Lansing 48913

Minnesota—Department of Economic Security, 390 North Robert St., St. Paul 55101

Mississippi—Employment Security Commission, 1520 W. Capital St., P.O. Box 1699, Jackson 39205

Missouri—Dept. of Labor & Industrial Relations, Division of Employment Security, 421 E. Dunklin St., P.O. Box 59, Jefferson City 65101

Montana—Dept. of Labor & Industry, Employment Security Division of Montana, P.O. Box 1728, Helena 59624

Nebraska—Dept. of Labor, Div of Employment, 550 South 16th St., P.O. Box 94600, State House Station, Lincoln 68509

Nevada—Employment Security Department, 500 East 3rd St., Carson City 89713

New Hampshire—Department of Employment Security, 32 S. Main St., Room 204, Concord 03301

New Jersey—Department of Labor, John Fitch Plaza, Trenton 08625

New Mexico—Department of Labor, 401 Broadway, N.E., P.O. Box 1928, Albuquerque 87103

New York—Department of Labor, State Campus, Building 12, Albany 12240

North Carolina—Employment Security Commission of North Carolina, 700 Wade Ave., P.O. Box 25903, Raleigh 27611

North Dakota—Job Service North Dakota, 1000 E. Divide Ave., P.O. Box 5507, Bismarck, 58506-5507

Ohio—Bureau of Employment Services, 145 South Front St., P.O. Box 1618, Columbus 43216

Oklahoma—Employment Security Commission, 200 Will Rogers Memorial Office Bldg., Oklahoma City 73105

Oregon—Employment Department, Dept of Human Resources, 875 Union St., N.E., Salem 97311

Pennsylvania—Department of Labor & Industry, 1720 Labor & Industry Bldg. Harrisburg 17121

Puerto Rico—Department of Labor & Human Resources, 505 Munoz Rivera Ave., Hato Rey 00918

Rhode Island—Department of Labor & Training, 101 Friendship St., Providence 01903-3740

South Carolina—Employment Security Commission, P.O. Box 995, Columbia 29202

South Dakota—Department of Labor, 700 Governors Drive, Pierre 57501-2277

Tennessee—TN Department of Labor & Workforce Development, Division of Employment Security, 500 James Robertson Parkway 12th Floor, Davy Crockett Tower, Nashville 37245-1700

Utah—Department of Workforce Services, 140 East 300 South, PO Box 45249, Salt Lake City 84145-0249

Vermont—Department of Employment & Training, P.O. Box 488, 5 Green Mountain Drive, Montpelier 05601-0488

Virgin Islands—Department of Labor, 2203 Church Street Christiansted, St. Croix 00820

Virginia—Virginia Employment Commission, 703 East Main Street, Richmond 23219

Washington—Employment Security Department, P.O. Box 9046, Olympia 98507-9046

West Virginia—Bureau of Employment Programs, 112 California Ave., Charleston 25305-0112

Wisconsin—Department of Workforce Development, 201 East Washington Avenue, Room 400X, Madison 53707

Wyoming—Department of Employment, PO Box 2760, Casper 82602

Labor Surplus Areas
[October 1, 2001 through September 30, 2002]
Eligible labor surplus | Civil jurisdictions included
Alabama
Anniston City | Anniston City in Calhoun County.
Bibb County | Bibb County.
Bullock County | Bullock County.
Butler County | Butler County.
Choctaw County | Choctaw County.
Clarke County | Clarke County.
Clay County | Clay County.
Colbert County | Colbert County.
Conecuh County | Conecuh County.
Covington County | Covington County.
Crenshaw County | Crenshaw County.
Dallas County | Dallas County.
Fayette County | Fayette County.
Florence City | Florence City in Lauderdale County.
Franklin County | Franklin County.
Gadsden City | Gadsden City in Etowah County.
Geneva County | Geneva County.
Greene County | Greene County.
Hale County | Hale County.
Jackson County | Jackson County.
Lamar County | Lamar County.
Lowndes County | Lowndes County.
Macon County | Macom County.
Marion County | Marion County.
Monroe County | Monroe County.
Perry County | Perry County.
Pickens County | Pickens County.
Pike County | Pike County.
Prichard City | Prichard City in Mobile County.
Sumter County | Sumter County.
Walker County | Walker County.
Washington County | Washington County.
Wilcox County | Wilcox County.
Winston County | Winston County.
Alaska
Aleutian Island West Census Area | Aleutian Island West Census Area.
Bethel Census Area | Bethel Census Area.
Bristol Bay Borough Div | Bristol Bay Borough Div.
Denali Borough | Denali Borough.
Dillingham Census Area | Dillingham Census Area.
Fairbanks City | Fairbanks City in Fairbanks North Star Borough.
Haines Borough | Haines Borough.
Kenai Pennsula Borough | Kenai Pennsula Borough.
Ketchikan Gateway Borough | Ketchikan Gateway Borough.
Kodiak Island Borough | Kodiak Island Borough.
Lake and Penninsula Borough | Lake and Penninsula Borough.
Matanuska-Susitina Borough | Matanuka-Sustina Borough.
Nome Census Area | Nome Census Area.
North Slope Borough | North Slope Borough.
Northwest Arctic Borough | Northwest Arctic Borough.
Prince of Wales Outer Ketchikan | Prince of Wales Outer Ketchikan.
Skagway-Hoonah-Angoon Cen Area | Skagway-Hoonah-Angoon Cen Area.
Southeast Fairbanks Census Area | Southeast Fairbanks Census Area.
Valdez Cordova Census Area | Valdez CorDova Census Area.
Wade Hampton Census Area | Wade Hampton Census Area.
Wrangell-Petersburg Census Area | Wrangell-Petersburg Census Area.
Yakutat Borough | Yakutat Borough.
Yukon-Koyukuk Census Area | Yukon-Koyukuk Census Area.
Arizona
Apache County | Apache County.
Balance of Coconino County | Cocinino County less Flagstaff City.
Gila County | Gila County.
Graham County | Graham County.
Greenlee County | Greenlee County.
La Paz County | LaPaz County.
Navajo County | Navajo County.
Santa Cruz County | Santa Cruz County.
Yuma City | Yuma City in Yuma County.
Balance of Yuma County | Yuma County less Luma City.
Arkansas
Ashley County | Ashley County.
Bradley County | Bradley County.
Calhoun County | Calhoun County.
Chicot County | Chicot County.
Clay County | Clay County.
Conway County | Conway County.
Cross County | Cross County.
Dallas County | Dallas County.
Desha County | Desha County.
Drew County | Drew County.
Jackson County | Jackson County.
Lafayette County | Lafayette County.
Lawrence County | Lawrence County.
Lee County | Lee County.
Mississippi County | Mississippi County.
Monroe County | Monroe County.
Ouachita County | Ouachita County.
Perry County | Perry County.
Phillips County | Phillips County.
Pine Bluff City | Pine Bluff City in Jefferson County.
Randolph County | Randolph County.
Searcy County | Searcy County.
St. Francis County | St. Francis County.
Woodruff County | Woodruff County.
California
Alpine County | Alpine County.
Azusa City | Azusa City in Los Angeles County.
Bakersfield City | Bakersfield City in Kern County.
Baldwin Park City | Baldwin Park City in Los Angeles County.
Banning City | Banning City in Riverside County.
Bell City | Bell City in Los Angeles County.
Bell Gardens City | Bell Gardens City in Los Angeles County.
Balance of Butte County | Butte County less Chico City, Paradise City.
Calaveras County | Calaveras County.
Calexico City | Calexico City in Imperial County.
Ceres City | Ceres City in Stanislaus County.
Chico City | Chico City in Butte County.
Clovis City | Clovis City in Fresno County.
Colton City | Colton City in San Bernardino County.
Colusa County | Colusa County.
Compton City | Compton City in Los Angeles County.
Del Norte County | Del Norte County.
Delano City | Delano City in Kern County.
El Centro City | El Centro City in Imperial County.
El Monte City | El Monte City in Los Angeles County.
Eureka City | Eureka City in Humboldt County.
Fresno City | Fresno City in Fresno County.
Balance of Fresno County | Fresno County less Clovis City, Fresno City.
Glenn County | Glenn County.
Hanford City | Hanford City in Kings County.
Hemet City | Hemet City in Riverside County.
Holister City | Holister City in San Benito County.
Balance of Humboldt County | Humboldt County less Eureka City.
Huntington Park City | Huntington Park City in Los Angeles County.
Balance of Imperial County | Imperial County less Calexico City, El Centro City.
Indio City | Indio City in Riverside County.
Inglewood City | Inglewood City in Los Angeles County.
Balance of Kern County | Kern County less Bakersfield City, Delano City, Ridgecrest City.
Balance of Kings County | Kings County less Hanford City.
La Puente City | La Puente City in Los Angeles County.
Lake County | Lake County.
Lake Elsinore City | Lake Elsinore City in Riverside County.
Lassen County | Lassen County.
Lodi City | Lodi City in San Joaquin County.
Los Angeles City | Los Angeles City in Los Angeles County.
Lynwood City | Lynwood City in Los Angeles County.
Madera City | Madera City in Madera County.
Balance of Madera County | Madera County less Madera City.
Manteca City | Manteca City in San Joaquin County.
Marina City | Marina City in Monterey County.
Mariposa County | Mariposa County.
Maywood City | Maywood City in Los Angeles County.
Mendocino County | Mendocino County.
Merced City | Merced City in Merced County.
Balance of Merced County | Merced County less Merced City.
Modesto City | Modesto City in Stanislaus County.
Modoc County | Modoc County.
Mono County | Mono County.
Balance of Monterey County | Monterey County less Marina City, Monterey City, Salinas City, Seaside City.
Oxnard City | Oxnard City in Ventura County.
Paramount City | Paramount City in Los Angeles County.
Perris City | Perris City in Riverside County.
Pico Rivera City | Pico Rivera City in Los Angeles County.
Plumas County | Plumas County.
Pomona City | Pomona City in Los Angeles County.
Porterville City | Porterville City in Tulare County.
Redding City | Redding City in Shasta County.
Ridgecrest City | Ridgecrest City in Kern County.
Rosemead City | Rosemead City in Los Angeles County.
Salinas City | Salinas City in Monterey County.
San Bernardino City | San Bernardino City in San Bernardino County.
San Jacinto City | San Jacinto City in Riverside County.
Balance of San Joaquin County | San Joaquin County less Lodi City, Manteca City, Stockton City, Tracey City.
San Pablo City | San Pablo City in Contra Costa County.
Santa Paula City | Santa Paula City in Ventura County.
Seaside City | Seaside City in Monterey County.
Balance of Shasta County | Shasta County less Redding City.
Sierra County | Sierra County.
Siskiyou County | Siskiyou County.
South Gate City | South Gate City in Los Angeles County.
Balance of Stanislaus County | Stanislaus County less Ceres City, Modesto City, Turlock City.
Stockton City | Stockton City in San Joaquin County.
Balance of Sutter County | Sutter County less Yuba City.
Tehama County | Tehama County.
Tracey City | Tracey City in San Joaquin County.
Trinity County | Trinity County.
Tulare City | Tulare City in Tulare County.
Balance of Tulare County | Tulare County less Porterville City, Tulare City, Visalia City.
Tuolumne County | Tuolumne County.
Turlock City | Turlock City in Stanislaus County.
Victorville City | Victorville City in San Bernardino County.
Visalia City | Visalia City in Tulare County.
Watsonville City | Watsonville City in Santa Cruz County.
Yuba City | Yuba City in Sutter County.
Yuba County | Yuba County.
Colorado
Conejos County | Conejos County.
Costilla County | Costilla County.
Dolores County | Dolores County.
Rio Grande County | Rio Grande County.
Saguache County | Saguache County.
San Juan County | San Juan County.
District of Columbia
Washington DC City | Washington, DC City in District of Columbia.
Florida
Delray Beach City | Delray Beach City in Palm Beach County.
Fort Pierce City | Fort Pierce City in St. Lucie County.
Glades County | Glades County.
Gulf County | Gulf County.
Hamilton County | Hamilton County.
Hardee County | Hardee County.
Hendry County | Hendry County.
Highlands County | Highlands County.
Indian River County | Indian River County.
Miami Beach City | Miami Beach City in Miami-Dade County.
North Miami City | North Miami City in Miami-Dade County.
Okeechobee County | Okeechobee County.
Panama City | Panama City in Bay County.
Port St. Lucie City | Port St. Lucie City in Bay County.
Riviera Beach City | Riviera Beach City in Palm Beach County.
Balance of St. Lucie County | St. Lucie County less Fort Pierce City, Fort St. Lucie City.
Taylor County | Taylor County.
West Palm Beach City | West Palm Beach City in Palm Beach County.
Georgia
Albany City | Albany City in Dougherty County.
Appling County | Appling County.
Atkinson County | Atkinson County.
Bacon County | Bacon County.
Baker County | Baker County.
Ben Hill County | Ben Hill County.
Berrien County | Berrien County.
Brantley County | Brantley County.
Burke County | Burke County.
Calhoun County | Calhoun County.
Chattahoochee County | Chattahoochee County.
Clay County | Clay County.
Colquitt County | Colquitt County.
Crisp County | Crisp County.
Dooly County | Dooly County.
Early County | Early County.
Elbert County | Elbert County.
Emanuel County | Emanuel County.
Grady County | Grady County.
Greene County | Greene County.
Hancock County | Hancock County.
Heard County | Heard County.
Jeff Davis County | Jeff Davis County.
Jefferson County | Jefferson County.
Johnson County | Johnson County.
La Grange City | La Grange City in Troup County.
Lamar County | Lamar County.
Laurens County | Laurens County.
Balance of Liberty County | Liberty County less Hinesville City.
Lincoln County | Lincoln County.
Macon City | Macon City in Bibb County, Jones County.
Macon County | Macon County.
McDuffie County | McDuffie County.
Mitchell County | Mitchell County.
Montgomery County | Montgomery County.
Randolph County | Randolph County.
Richmond County | Richmond County.
Screven County | Screven County.
Stewart County | Stewart County.
Talbot County | Talbot County.
Tattnal County | Tattnal County.
Telfair County | Telfair County.
Terrell County | Terrell County.
Toombs County | Toombs County.
Treutlen County | Treutlen County.
Turner County | Turner County.
Twiggs County | Twiggs County.
Upson County | Upson County.
Valdosta City | Valdosta City in Lowndes County.
Warren County | Warren County.
Washington County | Washington County.
Wayne County | Wayne County.
Wheeler County | Wheeler County.
Wilkinson County | Wilkinson County.
Worth County | Worth County.
Hawaii
Hawaii County | Hawaii County
Kauai County | Kauai County.
Idaho
Adams County | Adams County.
Benewah County | Benewah County.
Boise County | Boise County.
Bonner County | Bonner County.
Boundary County | Boundary County.
Caribou County | Caribou County.
Cassia County | Cassia County.
Clearwater County | Clearwater County.
Custer County | Custer County.
Elmore County | Elmore County.
Fremont County | Fremont County.
Gem County | Gem County.
Idaho County | Idaho County.
Balance of Kootenai County | Kootenai County less Coeur D Alene City.
Lemhi County | Lemhi County.
Lewis County | Lewis County.
Minidoka County | Minidoka County.
Balance of Nez Perce County | Nez Perce County less Lewiston City.
Payette County | Payette County.
Power County | Power County.
Shoshone County | Shoshone County.
Valley County | Valley County.
Washington County | Washington County.
Illinois
Alexander County | Alexander County.
Alton City | Alton City in Madison County.
Belleville City | Belleville City in St. Clair County.
Carpentersville City | Carpentersville City in Kane County.
Carroll County | Carroll County.
Chicago Heights City | Chicago Heights City in Cook County.
Cicero City | Cicero City in Cook County.
Clay County | Clay County.
Crawford County | Crawford County.
Danville City | Danville City in Vermilion County.
De Witt County | De Witt County.
Dolton Village | Dolton Village in Cook County.
East St. Louis City | East St. Louis City in St. Clair County.
Fayette County | Fayette County.
Franklin County | Franklin County.
Freeport City | Freeport City in Stephenson County.
Fulton County | Fulton County.
Gallatin County | Gallatin County.
Granite City | Granite City in Madison County.
Grundy County | Grundy County.
Hamilton County | Hamilton County.
Hardin County | Hardin County.
Harvey City | Harvey City in Cook County.
Jasper County | Jasper County.
Johnson County | Johnson County.
Joliet City | Joliet City in Will County.
Kankakee City | Kankakee City in Kankakee County.
La Salle County | La Salle County.
Lawrence County | Lawrence County.
Marion County | Marion County.
Mason County | Mason County.
Maywood Village | Maywood Village in Cook County.
Mercer County | Mercer County.
Montgomery County | Montgomery County.
North Chicago City | North Chicago City in Lake County.
Perry County | Perry County.
Pope County | Pope County.
Pulaski County | Pulaski County.
Richland County | Richland County.
Rockford City | Rockford City in Winnebago County.
Saline County | Saline County.
Union County | Union County.
Wabash County | Wabash County.
Waukegan City | Waukegan City in Lake County.
Wayne County | Wayne County.
Whiteside County | Whiteside County.
Williamson County | Williamson County.
Indiana
East Chicago City | East Chicago City in Lake County
Gary City | Gary City in Lake County.
Greene County | Greene County.
Marion City | Marion City in Grant County.
Orange County | Orange County.
Perry County | Perry County.
Pulaski County | Pulaski County.
Switzerland County | Switzerland County.
Kansas
Brown County | Brown County.
Geary County | Geary County.
Kansas City Kn | Kansas City Kn in Wyandotte County.
Linn County | Linn County.
Kentucky
Adair County | Adair County.
Ballard County | Ballard County.
Bath County | Bath County.
Boyd County | Boyd County.
Breathitt County | Breathitt County.
Breckinridge County | Breckinridge County.
Carter County | Carter County.
Casey County | Casey County.
Clay County | Clay County.
Crittenden County | Crittenden County.
Cumberland County | Cumberland County.
Elliott County | Elliott County.
Floyd County | Floyd County.
Fulton County | Fulton County.
Green County | Green County.
Hancock County | Hancock County.
Harlan County | Harlan County.
Hopkins County | Hopkins County.
Johnson County | Johnson County.
Knott County | Knott County.
Lawrence County | Lawrence County.
Letcher County | Letcher County.
Lewis County | Lewis County.
Magoffin County | Magoffin County.
Martin County | Martin County.
McCreary County | McCreary County.
McLean County | McLean County.
Menifee County | Menifee County.
Monroe County | Monroe County.
Morgan County | Morgan County.
Muhlenberg County | Muhlenberg County.
Nicholas County | Nicholas County.
Ohio County | Ohio County.
Perry County | Perry County.
Pike County | Pike County.
Russell County | Russell County.
Taylor County | Taylor County.
Wayne County | Wayne County.
Webster County | Webster County.
Wolfe County | Wolfe County.
Louisiana
Acadia Parish | Acadia Parish.
Alexandria City | Alexandria City in Rapides Parish.
Allen Parish | Allen Parish.
Assumption Parish | Assumption Parish.
Avoyelles Parish | Avoyelles Parish.
Beauregard Parish | Beauregard Parish.
Bienville Parish | Bienville Parish.
Caldwell Parish | Caldwell Parish.
Catahoula Parish | Catahoula Parish.
Claiborne Parish | Claiborne Parish.
Concordia Parish | Concordia Parish.
De Sotto Parish | De Sotto Parish.
East Carroll Parish | East Carroll Parish.
Franklin Parish | Franklin Parish.
Grant Parish | Grant Parish.
Balance of Iberia | Iberia Parish less New Iberia City.
Iberville Parish | Iberville Parish.
Jefferson Davis Parish | Jefferson Davis Parish.
La Salle Parish | La Salle Parish.
Lake Charles City | Lake Charles City in Calcasieu Parish.
Madison Parish | Madison Parish.
Morehouse Parish | Morehouse Parish.
New Iberia City | New Iberia City in Iberia Parish.
Pointe Coupee Parish | Point Coupee Parish.
Red River Parish | Red River Parish.
Richland Parish | Richland Parish.
St. James Parish | St. James Parish.
St. John Baptist Parish | St. John Baptist Parish.
St. Landry Parish | St. Landry Parish.
St. Martin Parish | St. Martin Parish.
St. Mary Parish | St. Mary Parish.
Tangipahoa Parish | Tangipahoa Parish.
Tensas Parish | Tensas Parish.
Vermilion Parish | Vermilion Parish.
Washington Parish | Washington Parish.
Webster Parish | Webster Parish.
West Carroll Parish | West Carroll Parish.
Winn Parish | Winn Parish.
Maine
Franklin County | Franklin County
Oxford County | Oxford County.
Piscataquis County | Piscataquis County.
Somerset County | Somerset County.
Washington County | Washington County.
Maryland
Allegany County | Allegany County.
Baltimore City | Baltimore City.
Dorchester | Dorchester County.
Garrett County | Garrett County.
Somerset County | Somerset County.
Worcester County | Worcester County.
Massachusetts
Gay Head Town | Gay Head Town in Dukes County.
Lawrence City | Lawrence City in Essen County.
New Bedford City | New Bedford City in Bristol County.
Phillipston Town | Phillipston Town in Worcester County.
Provincetown Town | Provincetown Town in Barnstable County.
Truro Town | Truor Town in Barnstabale County.
Michigan
Alcona County | Alcona County.
Alpena County | Alpena County.
Antrim County | Antrim County.
Arenac County | Arenac County.
Baraga County | Baraga County.
Bay City | Bay City in Bay County.
Burton City | Burton City in Genesee County.
Cheboygan County | Cheboygan County.
Chippewa County | Chippewa County.
Clare County | Clare County.
Crawford County | Crawford County.
Delta County | Delta County.
Detroit City | Detroit City in Wayne County.
Emmet County | Emmet County.
Flint City | Flint City in Genesee County.
Gladwin County | Gladwin County.
Gogebic County | Gogebic County.
Highland Park City | Highland Park City in Wayne County.
Iosco County | Iosco County.
Iron County | Iron County.
Kalkaska County | Kalkaska County.
Keweenaw County | Keweenaw County.
Lake County | Lake County.
Luce County | Luce County
Mackinac County | Mackinac County.
Manistee County | Manistee County.
Montmorency County | Montmorency County.
Mount Morris Township | Mount Morris Township in Genesee County.
Muskegon City | Muskegon City in Muskegon County.
Newaygo County | Newaygo County.
Oceana County | Oceana County.
Ogemaw County | Ogemaw County.
Ontonagon County | Ontonagon County.
Oscoda County | Oscoda County.
Pontiac City | Pontiac City in Oakland County.
Presque Isle County | Presque Isle County.
Roscommon County | Roscommon County.
Saginaw City | Saginaw City in Saginaw County.
Sanilac County | Sanilac County.
Schoolcraft County | Schoolcraft County.
Wexford County | Wexford County.
Minnesota
Aitkin County | Aitkin County.
Becker County | Becker County.
Cass County | Cass County.
Clearwater County | Clearwater County.
Grant County | Grant County.
Itasca County | Itasca County.
Kanabec County | Kanabec County.
Kittson County | Kittson County.
Koochiching County | Koochiching County.
Mahnomen County | Mahnomen County.
Marshall County | Marshall County.
Mille Lacs County | Mille Lacs County.
Morrison County | Morrison County.
Pennington County | Pennington County.
Pine County | Pine County.
Red Lake County | Red Lake County.
Mississippi
Adams County | Adams County.
Attala County | Attala County.
Benton County | Benton County.
Bolivar County | Bolivar County.
Carroll County | Carroll County.
Chickasaw County | Chickasaw County.
Choctaw County | Choctaw County.
Claiborne County | Claiborne County.
Clarke County | Clarke County.
Clay County | Clay County.
Coahoma County | Coahoma County.
Columbus City | Columbus City in Lowndes County.
Copiah County | Copiah County.
Franklin County | Franklin County.
George County | George County.
Greene County | Greene County.
Greenville City | Greenville City in Washington County.
Holmes County | Holmes County.
Humphreys County | Humphreys County.
Issaquena County | Issaquena County.
Jefferson County | Jefferson County.
Jefferson Davis County | Jefferson Davis County.
Kemper County | Kemper County.
Lawrence County | Lawrence County.
Leake County | Leake County.
Leflore County | Leflore County.
Marion County | Marion County.
Marshall County | Marshall County.
Meridian City | Meridian City in Lauderdale County.
Monroe County | Monroe County.
Montgomery County | Montgomery County.
Newton County | Newton County.
Noxubee County | Noxubee County.
Panola County | Panola County.
Perry County | Perry County.
Quitman County | Quitman County.
Sharkey County | Sharkey County.
Stone County | Stone County.
Sunflower County | Sunflower County.
Tallahatchie County | Tallahatchie County.
Tishomingo County | Tishomingo County.
Tunica County | Tunica County.
Walthall County | Walthall County.
Balance of Washington County | Washington County less Greenville City.
Wayne County | Wayne County.
Wilkinson County | Wilkinson County.
Winston County | Winston County.
Yalobusha County | Yalobusha County.
Yazoo County | Yazoo County.
Missouri
Benton County | Benton County.
Dent County | Dent County.
Hickory County | Hickory County.
Iron County | Iron County.
Linn County | Linn County.
Madison County | Madison County.
Pemiscot County | Pemiscot County.
Pulaski County | Pulaski County.
Reynolds County | Reynolds County.
Shelby County | Shelby County.
St. Louis City | St. Louis City.
St. Francois County | St. Francois County.
Stone County | Stone County.
Taney County | Taney County.
Texas County | Texas County.
Washington County | Washington County.
Wayne County | Wayne County.
Montana
Anaconda-Deer Lodge County | Anaconda-Deer Lodge County.
Big Horn County | Big Horn County.
Blaine County | Blaine County.
Flathead County | Flathead County.
Glacier County | Glacier County.
Granite County | Granite County.
Lake County | Lake County.
Lincoln County | Lincoln County.
Meagher County | Meagher County.
Mineral County | Mineral County.
Musselshell County | Musselshell County.
Phillips County | Phillips County.
Richland County | Richland County.
Roosevelt County | Roosevelt County.
Rosebud County | Rosebud County.
Sanders County | Sanders County.
Nebraska
Johnson County | Johnson County.
Richardson County | Richardson County.
Thurston County | Thurston County.
Nevada
Churchill County | Churchill County.
Esmeralda County | Esmeralda County.
Lander County | Lander County.
Lincoln County | Lincoln County.
Lyon County | Lyon County.
Mineral County | Mineral County.
North Las Vegas City | North Las Vegas City in Clark County.
New Jersey
Atlantic City | Atlantic City in Atlantic County.
Camden City | Camden City in Camden County.
Cape May County | Cape May County.
Balance of Cumberland County | Cumberland County less Millville City, Vineland City.
East Orange City | East Orange City in Essex County.
Elizabeth City | Elizabeth City in Union County.
Jersey City | Jersey City in Hudson County.
Long Branch City | Long Branch City in Monmouth County.
Millville City | Millville City in Cumberland County.
New Brunswick City | New Brunswick City in Middlesex County.
Newark City | Newark City in Essex County.
Passaic City | Passaic City in Passaic County.
Paterson City | Paterson City in Passaic County.
Perth Amboy City | Perth Amboy City in Middlesex County.
Plainfield City | Plainfield City in Union County.
Trenton City | Trenton City in Mercer County.
Union City | Union City in Hudson County.
Vineland City | Vineland City in Cumberland County.
West New York Town | West New York Town in Hudson County.
New Mexico
Carlsbad City | Carlsbad City in Eddy County.
Catron County | Catron County.
Balance of Chaves County | Chaves County less Roswell City.
Cibola County | Cibola County.
Balance of Dona Ana County | Dona Ana County less Las Cruces City.
Balance of Eddy County | Eddy County less Carlsbad City.
Grant County | Grant County.
Guadalupe County | Guadalupe County.
Hidalgo County | Hidalgo County.
Hobbs City | Hobbs City in Lea County.
Las Cruces City | Las Cruces City in Dona Ana County.
Balance of Lea County | Lea County less Hobbs City.
Luna County | Luna County.
McKinley County | McKinley County.
Mora County | Mora County.
Balance of Otero County | Otero County less Alamogordo City.
Rio Arriba County | Rio Arriba County.
Roswell City | Roswell City in Chaves County.
Balance of San Juan County | San Juan County less Farmington City.
San Miguel County | San Miguel County.
Taos County | Taos County.
New York
Allegany County | Allegany County.
Auburn City | Auburn City in Cayuga County.
Bronx County | Bronx County.
Buffalo City | Buffalo City in Erie County.
Cattaraugus County | Cattaraugus County.
Cortland County | Cortland County.
Elmira City | Elmira City in Chemung County.
Essex County | Essex County.
Franklin County | Franklin County.
Fulton County | Fulton County.
Hamilton County | Hamilton County.
Balance of Jefferson County | Jefferson County less Watertown CIty.
Kings County | Kings County.
Lewis County | Lewis County.
Lockport City | Lockport City in Niagara County.
Montgomery County | Montgomery County.
Newburgh City | Newburgh City in Orange County.
Niagara Falls City | Niagara Falls City in Niagara County.
Oswego County | Oswego County.
Rochester City | Rochester City in Monroe County.
St. Lawrence County | St. Lawrence County.
Watertown City | Watertown City in Jefferson County.
Wyoming County | Wyoming County.
North Carolina
Anson County | Anson County.
Ashe County | Ashe County.
Beaufort County | Beaufort County.
Bertie County | Bertie County.
Cherokee County | Cherokee County.
Columbus County | Columbus County.
Balance of Edgecombe County | Edgecombe County less Rocky Mount City.
Graham County | Graham County.
Halifax County | Halifax County.
Hoke County | Hoke County.
Hyde County | Hyde County.
Kinston City | Kinston City in Lenoir County.
Martin County | Martin County.
Northampton County | Northampton County.
Richmond County | Richmond County.
Robeson County | Robeson County.
Rocky Mount City | Rocky Mount City in Edgecombe County, Nash County.
Rutherford County | Rutherford County.
Scotland County | Scoltland County.
Swain County | Swain County.
Tyrrell County | Tyrrell County.
Vance County | Vance County.
Warren County | Warren County.
Washington County | Washington County.
Wilson City | Wilson City in Wilson County.
North Dakota
Benson County | Benson County.
McLean County | McLean County.
Mercer County | Mercer County.
Mountrail County | Mountrail County.
Pembina County | Pembina County.
Rolette County | Rolette County.
Sheridan County | Sheridan County.
Sioux County | Sioux County.
Ohio
Adams County | Adams County.
Canton City | Canton City in Stark County.
Cleveland City | Cleveland City in Cuyahoga County.
Dayton City | Dayton City in Montgomery County.
East Cleveland City | East Cleveland City in Cuyahoga County.
Gallia County | Gallia County.
Guernsey County | Guernsey County.
Harrison County | Harrison County.
Hocking County | Hocking County.
Huron County | Huron County.
Jackson County | Jackson County.
Jefferson County | Jefferson County.
Lawrence County | Lawrence County.
Lima City | Lima City in Allen County.
Lorain City | Lorain City in Lorain County.
Mansfield City | Mansfield City in Richland County.
Meigs County | Meigs County.
Mercer County | Mercer County.
Monroe County | Monroe County.
Morgan County | Morgan County.
Noble County | Noble County.
Ottawa County | Ottawa County.
Perry County | Perry County.
Pike County | Pike County.
Sandusky City | Sandusky City in Erie County.
Scioto County | Scioto County.
Vinton County | Vinton County.
Warren City | Warren City in Trumbull County.
Youngstown City | Youngstown City in Mahoning County.
Zanesville City | Zanesville City in Muskingum County.
Oklahoma
Choctaw County | Choctaw County.
Haskell County | Haskell County.
Hughes County | Hughes County.
Balance of Kay County | Kay County less Ponca City.
Latimer County | Latimer County.
McCurtain County | McCurtain County.
Okmulgee County | Okmulgee County.
Seminole County | Seminole County.
Oregon
Albany City | Albany City in Linn County.
Baker County | Baker County.
Coos County | Coos County.
Crook County | Crook County.
Curry County | Curry County.
Balance of Deschutes County | Deschutes County less Bend City.
Douglas County | Douglas County.
Grant County | Grant County.
Harney County | Harney County.
Hood River County | Hood River County.
Balance of Jackson County | Jackson County less Medford City.
Jefferson County | Jefferson County.
Josephine County | Josephine County.
Klamath County | Klamath County.
Lake County | Lake County.
Lincoln County | Lincoln County.
Lincoln County | Lincoln County.
Balance of Linn County | Linn County less Albany City.
Malheur County | Malheur County.
Morrow County | Morrow County.
Umatilla County | Umatilla County.
Wallowa County | Wallowa County.
Wasco County | Wasco County.
Wheeler County | Wheeler County.
Pennsylvania
Armstrong County | Armstrong County.
Bedford County | Bedford County.
Balance of Cambria County | Cambria County less Johnstown City.
Cameron County | Cameron County.
Carbon County | Carbon County.
Chester City | Chester City in Delaware County.
Clearfield County | Clearfield County.
Elk County | Elk County.
Fayette County | Fayette County.
Forest County | Forest County.
Greene County | Greene County.
Hazleton City | Hazleton City in Luzerne County.
Huntingdon County | Huntingdon County.
Indiana County | Indiana County.
Jefferson County | Jefferson County.
Johnstown City | Johnstown City in Cambria County.
McKeesport City | McKeesport City in Allegheny County.
New Castle City | New Castle City in Lawrence County.
Philadelphia City | Philadelphia City in Philadelphia County.
Schuylkill County | Schuylkill County.
Williamsport City | Williamsport City in Lycoming County
Puerto Rico
Adjuntas Municipio | Adjuntas Municipio.
Aguada Municipio | Aguada Municipio.
Aguadilla Municipio | Aguadilla Municipio
Agus Buenas Municipio | Agus Buenas Municipio.
Aibonito Municipio | Aibonito Municipio.
Anasco Municipio | Anasco Municipio.
Arecibo Municipio | Arecibo Municipio.
Arroyo Municipio | Arroyo Municipio.
Barceloneta Municipio | Barceloneta Municipio.
Barranquitas Municipio | Barranquitas Municipio.
Bayamon Municipio | Bayamon Municipio.
Cabo Rojo Municipio | Cabo Rojo Municipio.
Caguas Municipio | Caguas Municipio.
Camuy Municipio | Camuy Municipio.
Canovanas Municipio | Canovanas Municipio.
Carolina Municipio | Carolina Municipio.
Catano Municipio | Catano Municipio.
Cayey Municipio | Cayey Municipio.
Ceiba Municipio | Ceiba Municipio.
Ciales Municipio | Ciales Municipio.
Cidra Municipio | Cidra Municipio.
Coamo Municipio | Coamo Municipio.
Comerio Municipio | Comerio Municipio.
Corozal Municipio | Corozal Municipio.
Dorado Municipio | Dorado Municipio.
Fajardo Municipio | Fajardo Municipio.
Florida Municipio | Florida Municipio.
Guanica Municipio | Guanica Municipio.
Guayama Municipio | Guayama Municipio.
Guayanilla Municipio | Guayanilla Municipio.
Gurabo Municipio | Gurabo Municipio.
Hatillo Municipio | Hatillo Municipio.
Hormigueros Municipio | Hormigueros Municipio.
Humacao Municipio | Humacao Municipio.
Isabela Municipio | Isabela Municipio.
Jayuya Municipio | Jayuya Municipio.
Juana Diaz Municipio | Juana Diaz Municipio.
Juncos Municipio | Juncos Municipio.
Lajas Municipio | Lajas Municipio.
Lares Municipio | Lares Municipio.
Las Marias Municipio | Las Marias Municipio.
Las Piedras Municipio | Las Piedras Municipio.
Loiza Municipio | Loiza Municipio.
Luquillo Municipio | Luquillo Municipio.
Manati Municipio | Manati Municipio.
Maricao Municipio | Maricao Municipio.
Maunabo Municipio | Maunabo Municipio.
Mayaguez Municipio | Mayaguez Municipio.
Moca Municipio | Moca Municipio.
Morovis Municipio | Morovis Municipio.
Naguabo Municipio | Naguabo Municipio.
Naranjito Municipio | Naranjito Municipio.
Orocovis Municipio | Orocovis Municipio.
Patillas Municipio | Patillas Municipio.
Penuelas Municipio | Penuelas Municipio.
Ponce Municipio | Ponce Municipio.
Quebradillas Municipio | Quebradillas Municipio.
Rincon Municipio | Rincon Municipio.
Rio Grande Municipio | Rio Grande Municipio.
Sabana Grande Municipio | Sabana Grande Municipio.
Salinas Municipio | Salinas Municipio.
San German Municipio | San German Municipio.
San Juan Municipio | San Juan Municipio.
San Lorenzo Municipio | San Lorenzo Municipio .
San Sebastian Municipio | San Sebastian Municipio.
Santa Isabel Municipio | Santa Isabel Municipio.
Toa Alta Municipio | Toa Alta Municipio.
Toa Baja Municipio | Toa Baja Municipio.
Trujillo Alto Municipio | Trujillo Alto Municipio.
Utuado Municipio | Utuado Municipio.
Vega Alta Municipio | Vega Alta Municipio.
Vega Baja Municipio | Vega Baja Municipio.
Vieques Municipio | Vieques Municipio.
Villalba Municipio | Villalba Municipio.
Yabucoa Municipio | Yabucoa Municipio.
Yuco Municipio | Yuco Municipio.
Rhode Island
New Shoreham Town | New Shoreham Town.
South Carolina
Allendale County | Allendale County.
Bamberg County | Bamberg County.
Barnwell County | Barnwell County.
Calhoun County | Calhoun County.
Chester County | Chester County.
Chesterfield County | Chesterfield County.
Clarendon County | Clarendon County.
Darlington County | Darlington County.
Dillon County | Dillon County.
Fairfield County | Fairfield County.
Georgetown County | Georgetown County.
Greenwood County | Greenwood County.
Lee County | Lee County.
Marion County | Marion County.
Marlboro County | Marlboro County.
McCormick County | McCormick County.
Orangeburg County | Orangeburg County.
Union County | Union County.
Williamsburg County | Williamsburg County.
South Dakota
Buffalo County | Buffalo County.
Corson County | Corson County.
Day County | Day County.
Dewey County | Dewey County.
Jackson County | Jackson County.
Mellette County | Mellette County.
Shannon County | Shannon County.
Todd County | Todd County.
Ziebach County | Zieback County.
Tennessee
Benton County | Benton County.
Campbell County | Cambell County.
Carroll County | Carroll County.
Clay County | Clay County.
Cocke County | Cocke County.
Decatur County | Decatur County.
Fentress County | Fentress County.
Gibson County | Gibson County.
Hardeman County | Hardeman County.
Hardin County | Hardin County.
Haywood County | Haywood County.
Henry County | Henry County.
Houston County | Houston County.
Humphreys County | Humphreys County.
Jackson County | Jackson County.
Johnson County | Johnson County.
Lauderdale County | Lauderdale County.
Lawrence County | Lawrence County.
Lewis County | Lewis County.
Meigs County | Meigs County.
Morgan County | Morgan County.
Perry County | Perry County.
Scott County | Scott County.
Sevier County | Sevier county.
Stewart County | Stewart County.
Unicoi County | Unicoi County.
Wayne County | Wayne County.
Texas
Andrews County | Andrews County.
Beaumont City | Beaumont City in Jefferson County.
Balance of Brazoria County | Brazoria County less Lake Jackson City, Pearland City.
Brooks County | Brooks County.
Brownsville City | Brownsville City in Cameron County.
Balance of Cameron County | Cameron County less Brownsville City, Harlingen City.
Camp County | Camp County.
Cass County | Cass County.
Cochran County | Cochran County.
Corpus Christi City | Corpus Christi City in Nueces County.
Crane County | Crane County.
Crockett County | Crockett County.
Culverson County | Culberson County.
Del Rio City | Del Rio City in Valverde County.
Dimmit County | Dimmit County.
Duval County | Duval County.
Eagle Pass City | Eagle Pass City in Maverick County.
Balance of Ector County | Ector County less Odessa City.
Edinburg City | Edinburg City in Hidalgo County.
El Paso City | El Paso City in El Paso County.
Balance of El Paso County | El Paso County less El Paso City, Socorro City.
Floyd County | Floyd County.
Frio County | Frio County.
Galveston City | Galveston City in Galveston County.
Balance of Galveston County | Galveston County less Friendswood City, Galveston City, League City, Texas City.
Gray County | Gray County.
Balance of Gregg County | Gregg County less Longview City.
Grimes County | Grimes County.
Hardin County | Hardin County.
Harlingen City | Harlingen City in Cameron County.
Balance of Harrison County | Harrison County less Longview City.
Balance of Hidalgo County | Hidalgo County less Edinburg City, McAllen City, Mission City, Pharr City, Weslaco City.
Hutchinson County | Huthinson County.
Jasper County | Jasper County.
Jim Hogg County | Jim Hogg County.
Jim Wells County | Jim Wells County.
Kingsville City | Kingsville City in Kleberg County.
Kinney County | Kinney County.
LaSalle County | LaSalle County.
Lamb County | Lamb County.
Laredo City | Laredo City in Webb County.
Liberty County | Liberty County.
Longview City | Longview City in Gregg County, Harrison County.
Loving County | Loving County.
Marion County | Marion County.
Matagorda County | Matagorda County.
Balance of Maverick County | Maverick County less Eagle Pass City.
McAllen City | McAllen City in Hidlgo County.
Balance of Midland County | Midland County less Midland City.
Mission City | Mission City in Hidalgo County.
Morris County | Morris County.
Newton County | Newton County.
Balance of Nueces County | Nueces County less Corpus Christi City.
Odessa City | Odessa City in Ector County.
Orange County | Orange County.
Panola County | Panola County.
Paris City | Paris City in Lamar County.
Pecos County | Pecos County.
Pharr City | Pharr City in Hidalgo County.
Port Arthur City | Port Arthur City in Jefferson County.
Presidio County | Presidio County.
Reagan County | Reagan County.
Reeves County | Reeves County.
Sabine County | Sabine County.
San Patrico County | San Patricio County.
Scurry County | Scurry County.
Shelby County | Shelby County.
Socorro City | Socorro City in El Paso County.
Somervell County | Somervell County.
Starr County | Starr County.
Terry County | Terry County.
Texarkana City Tex | Texarkana City Tex in Bowie County.
Texas City | Texas City in Galveston County.
Tyler County | Tyler County.
Upton County | Upton County.
Uvalde County | Uvalde County.
Balance of Val Verde County | Val Verde County less Del Rio City.
Ward County | Ward County.
Balance of Webb County | Webb County less Laredo City.
Weslaco City | Weslaco City in Hidalgo County.
Willacy County | Willacy County.
Winkler County | Winkler County.
Yoakum County | Yoakum County.
Zapata County | Zapata County.
Zavala County | Zavala County.
Utah
Carbon County | Carbon County.
Duchesne County | Duchesne County.
Emery County | Emery County.
Garfield County | Garfield County.
Grand County | Grand County.
Ogden City | Ogden City in Weber County.
San Juan County | San Juan County.
Vermont
Orleans County | Orleans County.
Virginia
Buchanan County | Buchanan County.
Carroll County | Carroll County.
Covington City | Covington City.
Dickenson County | Dickenson County.
Grayson County | Grayson County.
Halifax County | Halifax County.
Henry County | Henry County.
Lancaster County | Lancaster County.
Lee County | Lee County.
Martinsville City | Martinsville City.
Northumberland County | Northumberland County.
Norton City | Norton City.
Russell County | Russell County.
Surry County | Surry County.
Tazewell County | Tazewell County.
Wise County | Wise County.
Washington
Adams County | Adams County.
Bremerton City | Bremerton City in Kitsap County.
Chelan County | Chelan County.
Clallam County | Clallam County.
Columbia County | Columbia County.
Balance of Cowlitz County | Cowlitz County less Longview City.
Douglas County | Douglas County.
Everett City | Everett City in Snohomish County.
Ferry County | Ferry County.
Grant County | Grant County.
Grays Harbor County | Grays Harbor County.
Kennewick City | Kennewick City in Benton County.
Klickitat County | Klickitat County.
Lakewood City | Lakewood City in Pierce County.
Lewis County | Lewis County.
Longview City | Longview City in Cowlitz County.
Mason County | Mason County.
Okanogan County | Okanogan County.
Pacific County | Pacific County.
Pasco City | Pasco City in Franklin County.
Pend Oreille County | Pend Oreille County.
Skagit County | Skagit County.
Skamania County | Skamania County.
Spokane City | Spokane City in Spokane County.
Stevens County | Stevens County.
Wahkiakum County | Wahkiakum County.
Walla Walla City | Walla Walla City in Walla Walla County.
Yakima City | Yakima City in Yakima County.
Balance of Yakima County | Yakima County less Yakima City.
West Virginia
BarBour County | BarBour County.
Boone County | Boone County.
Braxton County | Braxton County.
Calhoun County | Calhoun County.
Clay County | Clay County.
Fayette County | Fayette County.
Gilmer County | Gilmer County.
Grant County | Grant County.
Greenbrier County | Greenbrier County.
Harrison County | Harrison County.
Huntington City | Huntington City in Cabell County.
Jackson County | Jackson County.
Lewis County | Lewis County.
Lincoln County | Lincoln County.
Logan County | Logan County.
Marion County | Marion County.
Balance of Marshall County | Marshall County less Wheeling City.
Mason County | Mason County.
Mc Dowell County | Mc Dowell County.
Mineral County | Mineral County.
Mingo County | Mingo County.
Nicholas County | Nicholas County.
Parkersburg City | Parkersburg City in Wood County.
Pendleton County | Pendleton County.
Pleasants County | Pleasants County.
Pocahontas County | Pocahontas County.
Raleigh County | Raleigh County.
Randolph County | Randolph County.
Ritchie County | Ritchie County.
Roane County | Roane County.
Summers County | Summers County.
Taylor County | Taylor County.
Tucker County | Tucker County.
Tyler County | Tyler County.
Upshur County | Upshur County.
Webster County | Webster County.
Wetzel County | Wetzel County.
Wirt County | Wirt County.
Wyoming County | Wyoming County.
Wisconsin
Ashland County | Ashland County.
Bayfield County | Bayfield County.
Beloit City | Beloit City in Rock County.
Florence County | Florence County.
Iron County | Iron County.
Juneau County | Juneau County.
Menominee County | Menominee County.
Milwaukee City | Milwaukee City in Milwaukee County.
Price County | Price County.
Racine City | Racine City in Racine County.
Wyoming
Big Horn County | Big Horn County.
Fremont County | Fremont County.
Balance of Natrona County | Natrona County less Casper County.
Uinta County | Uinta County.

[FR Doc. 01-31977 Filed 12-28-01; 8:45 am]

BILLING CODE 4510-30-M